GENERAL SERVICES ADMINISTRATION

Submission for OMB Review; Comment Request Child Care Subsidy Application—Provider

AGENCY: Office of Child Care, GSA.

ACTION: Notice of request for approval of a new information collection entitled Child Care Subsidy Application—Provider.

SUMMARY: Under the provisions of the Paperwork Reduction Act of 1995 (44 U.S.C. Chapter 35), GSA has submitted to the Office of Management and Budget (OMB) a request to review and approve a new information collection concerning Child Care Subsidy Application—Provider. An emergency review was requested by OMB and notice was published in the Federal Register at 65 FR 24698, April 27, 2000. OMB approved the emergency collection and assigned OMB Control No. 3090-0275.

The proposed information collection activity is for approval of the form for implementation of a GSA child care subsidy for lower income GSA employees in accordance with provisions of the Office of Personnel Management Rules and Regulations 5 CFR Part 792, Agency Use of Appropriated Funds for Lower Income Employees. The rule was published March 14, 2000. The form would verify the child care fees paid by federal employees to licensed child care providers so that providers could be paid a portion of those fees by GSA. The rule requires funds to subsidize lower income employees' child care rates be given to child care providers rather than employees. The form will also request banking information so those child care providers can be paid via electronic funds transfer.

DATES: Submit comments on or before August 18, 2000.

ADDRESSES: Comments regarding this burden estimate or any other aspect of this collection of information, including suggestions for reducing this burden, should be submitted to: Marjorie Ashby, General Services Administration (MVP), 1800 F Street NW, Washington, DC 20405.

FOR FURTHER INFORMATION CONTACT: Bonnie Storm, Office of Childcare, General Services Administration, 202-208-5119.

SUPPLEMENTARY INFORMATION:

A. Purpose

The purpose of this Notice is to consult with and solicit comments from the public concerning the proposed collection of information regarding GSA child care subsidy for lower income GSA employees.

B. Annual Reporting Burden

Respondents: 50; annual responses: 50; average hours per response: .15; burden hours: 12.5.

Copy of Proposal: A copy of this proposal may be obtained from the Office of Child Care. Room 6116, GSA Building, 1800 F Street NW, Washington, DC 20405, or by telephoning (202) 208-5119.

Dated: June 12, 2000.
David A. Drabkin,
Deputy Associate Administrator for Acquisition Policy.

[FR Doc. 00-15334 Filed 6-16-00; 8:45 am]

BILLING CODE 6820-61-M